DEPARTMENT OF COMMERCE

National Oceanic and Atmospheric Administration

Notice of Matching Fund Opportunity for Ocean and Coastal Mapping and Request for Partnership Proposals

AGENCY: Office of Coast Survey (OCS), National Ocean Service (NOS), National Oceanic and Atmospheric Administration (NOAA), Department of Commerce (DOC).

ACTION: Announcement of matching fund program opportunity, request for proposals, and request for interest by October 29, 2021.

SUMMARY: This notice establishes selection criteria and requirements for the NOAA Rear Admiral Richard T. Brennan Ocean Mapping Matching Fund program, to be known as the Brennan Matching Fund. The purpose of this notice is to encourage non-Federal entities to partner with the NOAA National Ocean Service ocean and coastal mapping programs on jointly funded ocean and coastal surveys and related activities of mutual interest. NOAA would receive and match partner funds and rely on its existing contract arrangements to conduct the surveying and mapping activities in FY 2023.

DATES: Proposals must be received via email by 5 p.m. ET on October 29, 2021. Applicants must submit via email any accompanying geographic information system (GIS) files, which are due no later than November 5, 2021. If an entity is unable to apply for this particular opportunity but has an interest in participating in similar, future opportunities, NOAA requests a one-page statement of interest, instead of a proposal, also by October 29, 2021, to help gauge whether to offer the Brennan Matching Fund program in future years.

ADDRESSES: Proposals must be submitted in PDF format via email to iwgocm.staff@noaa.gov by the October 29, 2021, deadline. NOAA strongly encourages interested entities to submit their proposals in advance of the deadline.

FOR FURTHER INFORMATION CONTACT: Requests for additional information should be directed to Ashley Chappell, NOAA Integrated Ocean and Coastal Mapping Coordinator, 240-429-0293, or ashley.chappell@noaa.gov.

SUPPLEMENTARY INFORMATION:

Background

NOAA's Office of Coast Survey (OCS) and National Geodetic Survey (NGS) are responsible for conducting hydrographic surveys and coastal mapping for safe navigation, the conservation and management of coastal and ocean resources, and emergency response. NOAA is committed to meeting these missions as collaboratively as possible, adhering to the Integrated Ocean and Coastal Mapping (IOCM) principle of “Map Once, Use Many Times.”

One of IOCM's strongest advocates, Rear Admiral Richard T. Brennan, developed an Ocean Mapping Plan for OCS in which IOCM plays a large role. Responsive to the June 2020 publications of the National Strategy for Mapping, Exploring, and Characterizing the U.S. Exclusive Economic Zone (NOMEC) and the Alaska Coastal Mapping Strategy (ACMS), OCS's Ocean Mapping Plan includes a goal to map the full extent of waters subject to U.S. jurisdiction to modern standards (all three plans are available at https://iocm.noaa.gov/about/strategic-plans.html.) Although we lost RDML Brennan tragically and unexpectedly in May 2021, we continue to implement his vision and passion for collaborative ocean mapping through this and other avenues.

The Coast Survey Ocean Mapping Plan describes a number of motivating forces for surveying and mapping waters subject to U.S. jurisdiction, including, but not limited to:

• Safe marine transportation;

• Coastal community resilience;

• A need to better understand the influence of the ocean's composition on related physical and ecosystem processes that affect climate, weather, and coastal and marine resources and infrastructure;

• Interest in capitalizing on the Blue Economy in growth areas like seafood production, tourism and recreation, marine transportation, and ocean exploration;

• The national prerogative to exercise U.S. sovereign rights to explore, manage, and conserve natural resources in waters subject to U.S. jurisdiction; and

• International commitments to map the global oceans by 2030.

Ocean mapping data is needed for safe navigation and also informs decisions regarding emergency planning, climate adaptation and resilience, economic investment, infrastructure development, and habitat protection. Additional sectors that require high-resolution seafloor surveys include deep sea mineral exploration, national security, and maritime domain awareness in the Arctic Ocean. Numerous other fields that rely on high-resolution ocean mapping data include fisheries management and sustainable use of natural resources, offshore renewable energy construction, and tsunami and hurricane modelling. Bathymetry provides critical information for assessing and responding to threats from climate change, sea level rise, flooding, and storm surge, in order to protect our coastal communities and maintain a sustainable economy. However, the resources needed to fully achieve the goal of comprehensively mapping U.S. oceans and coasts currently exceed NOAA's capacity. Mapping the full extent of waters subject to U.S. jurisdiction means relying on partners to contribute to the effort.

Coast Survey has considerable hydrographic expertise, including cutting edge understanding of the science and related acoustic systems. More detail on Coast Survey's surveying expertise and capabilities is available in the NOAA Coast Survey Ocean Mapping Capabilities report (https://nauticalcharts.noaa.gov/about/docs/about/ocean-mapping-capabilies.pdf). Information on the Hydrographic Services Contract Vehicle and the types of data and services available can be found at https://www.nauticalcharts.noaa.gov/data/hydrographic-surveys-contract-vehicle.html.

The NOAA Coastal Mapping Program under NGS, responsible for updating the shoreline and nearshore bathymetry for application to NOAA Nautical Charts and other coastal applications, relies in part on its NGS Shoreline Mapping Services contract. This contract also supports additional NGS geodetic and surveying missions in support of the National Spatial Reference System and the Aeronautical Survey Program (more information at https://geodesy.noaa.gov/ContractingOpportunities/).

Description

This notice announces the Brennan Matching Fund, a program to match funds with NOAA for ocean and coastal survey and mapping partnerships. NOAA will select proposals using the review process and criteria evaluation described under Review Process and Evaluation Criteria section of this notice.

The goal of this program is to leverage NOAA and partner funds to acquire more ocean and coastal survey data for mutual benefit, including for safe navigation, integrated ocean and coastal mapping, coastal zone management, coastal and ocean science, climate preparedness, infrastructure investments, and other activities and also to a consistent standard for projects during FY2023. The program relies on NOAA's mapping, charting, and geodesy expertise, appropriated funds, and its authority to receive and expend matching funds contributed by partners to conduct surveying and mapping activities. This program is subject to funding availability. If appropriated funds are available, NOAA will match funds contributed by selected entities for ocean and coastal surveys. NOAA will receive partner funds through memoranda of agreement using the authority granted to NOAA under the Coast and Geodetic Survey Act of 1947 to receive and expend funds for collaborative hydrographic surveys (33 U.S.C. 883e).

In addition to matching partner funds, NOAA will manage survey planning, quality-assure all data and products, provide the data and products to the partners on an agreed-upon timeframe, and handle data submission to the National Centers for Environmental Information for archiving and public accessibility. All ocean and coastal data and related products resulting from this program will be available to the public to the greatest extent allowed by applicable laws.

Specific value-added services NOAA will provide include:

• Project management and GIS-based task order planning, negotiation and award of necessary procurement contracts:

○ Tailored to meet the interests of matching fund partners

○ Managed on aerial, shipboard, and uncrewed/autonomous vehicles

• Data acquisition collection methods include, but are not limited to:

○ Multibeam Echosounder

○ Side Scan Sonar

○ Lidar (topographic, bathymetric, mobile)

○ Subsurface and airborne feature investigations

○ Sediment sampling

• Managing survey compliance with applicable laws, such as the National Environmental Policy Act and National Historic Preservation Act.

Products acquired may include, but not be limited to:

• Bathymetric data (multibeam, single beam, lidar)

• Backscatter

• Water column (depth dependent)

• Side scan sonar imagery

• Feature detection reports

• Sensor/data corrections and calibrations (e.g., conductivity, temperature and depth casts, horizontal/vertical position uncertainty)

• Survey and control services, including the installation, operation, and removal of water level and Global Positioning System stations

• Data processing, quality assessment and review of all acquired hydrographic data

• Data management and stewardship through data archive at the National Centers for Environmental Information

• High-resolution topographic/bathymetric product generation

More information on Coast Survey's Hydrographic Surveys Specifications and Deliverables publication can be found at https://nauticalcharts.noaa.gov/publications/docs/standards-and-requirements/specs/HSSD_2021.pdf. More information on NGS Specifications and Deliverables can be found at https://geodesy.noaa.gov/ContractingOpportunities/cmp-sow-v15.pdf. These specifications are based in part on the International Hydrographic Organization's Standards for Hydrographic Surveys, Special Publication 44 (https://iho.int/uploads/user/pubs/Drafts/S-44_Edition_6.0.0-Final.pdf). Background information, questions and answers, and slides that potential applicants might find useful from the expired FY2022 matching fund program webinar are available at https://iocm.noaa.gov/planning/contracts-grants-agreements.html.

NOAA would also like to continue to assess interest in the Brennan Matching Fund by eligible, non-Federal entities that do not plan to apply this year but that would consider applying in future years. NOAA welcomes eligible entities to submit a one-page statement of interest by October 29, 2021, to use in evaluating whether to offer the Brennan Matching Fund program in future years.

Areas of Focus

For this opportunity, proposals will be considered that are aligned with national priorities for climate and infrastructure, and the goals of the NOMEC, ACMS, the Coast Survey Ocean Mapping Plan (all available at https://iocm.noaa.gov/about/strategic-plans.html). Those goals include:

1. Map the United States Exclusive Economic Zone (EEZ): The goal is to coordinate mapping efforts to compile a complete map of deep water by 2030 and nearshore waters by 2040. Completing this goal will give the United States unprecedented and detailed information about the depth, shape, and composition of the seafloor of the United States EEZ (NOMEC Goal 2).

2. Expand Alaska Coastal Data Collection to Deliver the Priority Geospatial Products Stakeholders Require: Mapping the Alaska coast is challenging. However, using targeted and coordinated data collections will potentially reduce overall costs and improve the cost-to-benefit ratio of expanded mapping activities (ACMS Goal 2).

3. Map the full extent of waters subject to U.S. jurisdiction to modern standards: Based on the January 2021 analysis of data holdings at NOAA's National Centers for Environmental Information, 53 percent of waters subject to U.S. jurisdiction are unmapped, covering an area of about 3.6 million square nautical miles (https://iocm.noaa.gov/seabed-2030-status.html). Mapping these gap areas would increase U.S. contributions to the global Seabed 2030 Project.

Proposal Eligibility

This matching fund opportunity is available to non-Federal entities. Examples of non-Federal entities include state and local governments, tribal entities, universities, researchers and academia, the private sector, non-governmental organizations (NGOs), and philanthropic partners. Qualifying proposals must demonstrate the ability to provide at least 50 percent matching funds, which must be transferred to NOAA by September 2022 using a memorandum of agreement. A coalition of non-Federal entities may assemble matching funds and submit a proposal jointly. Use of other Federal agency funds as part of the non-Federal entities' match funds will be considered on a case-by-case basis and only as authorized by applicable laws. In-kind contributions are welcome to strengthen the proposal, but do not count toward the match and are not required.

Deadlines and Process Dates

All submissions must be emailed to iwgocm.staff@noaa.gov. Partner proposals are due by 5 p.m. ET on October 29, 2021 (see Submission Requirements). Please include all required components of the proposal in one email. Incomplete and late submissions will not be considered.

• Informational Webinar, September 9th, 2021, 2 p.m. ET; register at https://attendee.gotowebinar.com/register/7914808480326041357

• October 29, 2021: Due date for proposals

• October 29, 2021: Due date for statements of interest regarding potential future proposals

• November 5, 2021: Due date for additional GIS files supporting a proposal

• January 7, 2022: NOAA issues its decisions on proposals (subject to the availability of appropriations)

• February 2022: NOAA works with selected partners to develop memoranda of agreement to facilitate the transfer of funds from the non-Federal partner to NOAA

• May 2022: NOAA finalizes the memoranda of agreement with partners

• June-September 2022: Non-Federal partners transfer matching funds to NOAA; funds must be available to NOAA for contracting in October 2022

• January-September 2023: NOAA issues task orders to its survey contractors for NOAA/partner projects

Funding Availability

In the second year of this program, NOAA anticipates funding between two to five survey projects at a 50 percent match of up to $1 million per project. All projects are expected to have a FY2023 project start date and all non-Federal partner matching funds must be received by NOAA no later than September 2022. NOAA reserves the right to increase or decrease the available amount of matching funds based on the quality and feasibility of proposals received. This notice is subject to the availability of appropriations.

Project Period

NOAA intends to complete each selected project within two years. However, the period to complete a project may be extended, with no additional funding, if additional time is needed. NOAA will submit a final report to the non-Federal partner within 60 days of the conclusion of each project.

Submission Requirements

Project Proposal—To qualify, a proposal shall not exceed six total pages (plus GIS files of project areas) and must include the following three components:

1. A project title; executive summary (three to five sentences); and the names, affiliations, and roles of the project partners and any co-investigators, as well as the project lead that will serve as primary contact (one page maximum).

2. A justification and statement of need; description and graphics of the proposed survey area polygon(s) including relevance to the strategic areas of focus noted under Areas of Focus section and degree of flexibility on timing of survey effort (four pages maximum).

3. A project budget that lists the source(s) and amount(s) of funding that the partner would provide as its 50 percent contribution to NOAA. Budget must confirm that partner funds can be transferred to NOAA by September 2022 (one page maximum).

Proposals must use 12-point, Times New Roman font, single spacing, and one inch margins. Failure to adhere to these requirements will result in the proposal being returned without review and eliminated from further consideration. NOAA welcomes the submission of GIS files of project areas noted under Submission Requirements as ancillary attachments to the proposal to facilitate review. These files will not count toward the six page proposal limit. The GIS files must arrive no later than November 5, 2021.

Review Process and Evaluation Criteria

Proposals will be evaluated by the Brennan Matching Fund Program Management Team. Submissions will be ranked based on the following criteria:

1. Project justification (30 points)—This criterion ascertains whether there is intrinsic IOCM value in the proposed work and/or relevance to NOAA missions and priorities, including downstream partner proposals and uses. Use of, and reference to, national priorities on climate and infrastructure, NOMEC, ACMS and the Coast Survey Ocean Mapping Plan (all available at https://iocm.noaa.gov/about/strategic-plans.html); gap assessment tools such as the U.S. Bathymetry Gap Analysis (https://iocm.noaa.gov/seabed-2030-bathymetry.html); and the U.S. Interagency Elevation Inventory (https://catalog.data.gov/dataset/united-states-interagency-elevation-inventory-usiei), among others, are recommended. Coast Survey's Hydrographic Health Model showing priority survey areas for navigation safety is available upon request. The U.S. Federal Mapping Coordination site shows current Coast Survey and NGS mapping plans (fedmap.seasketch.org); email iwgocm.staff@noaa.gov for assistance with the layers on this site if needed.

2. Statement of need (10 points)—This criterion assesses clarity of project need, partner project funding alternatives if not selected, anticipated outcomes and public benefit.

3. Specified partner match (20 points)—The proposal identifies a point of contact for the entity submitting the proposal, as well as any partnering entities, a clear statement on partner matching funds provenance (e.g., state appropriations, NGO funds, or other sources), and timing of funds availability. In-kind contributions are welcome to strengthen the proposal, but do not count toward the funding match and are not required.

4. Project costs (15 points)—This criterion evaluates whether the proposed budget is realistic and commensurate with the proposed project needs and timeframe. If needed, please contact iwgocm.staff@noaa.gov for a rough estimate of cost per square nautical mile for surveys in a particular region; this figure will not be exact, as actual cost will be negotiated by region and scale of project.

5. Project feasibility and flexibility (25 points)—This criterion assesses the likelihood that the proposal would succeed based on survey conditions at the proposed time of year, such as project size, location, weather, NOAA analysis of environmental compliance implications, project flexibility and adaptability to existing NOAA plans and schedules, and other factors.

During the proposal review period, NOAA reserves the right to engage with proposal points of contact to ask questions and provide feedback on project costs and feasibility.

Management and Oversight

Once selections are made, NOAA will coordinate the development of the memoranda of agreement, funding transfers, project planning, environmental compliance, acquisition awards and quality assurance process. NOAA may bring in additional partners and/or funding (Federal and/or non-Federal) to expand a project further if feasible. Projects will be reviewed by NOAA on an annual basis to ensure they are responsive to partner interests and NOAA mission requirements, and to identify opportunities for outreach and education on the societal benefits of the work.

Authority: The Coast and Geodetic Survey Act of 1947, 33 U.S.C. 883e.

Kathryn Ries,
Performing the Duties of Director, Office of Coast Survey, National Ocean Service, National Oceanic and Atmospheric Administration.

[FR Doc. 2021-15970 Filed 7-26-21; 8:45 am]

BILLING CODE 3510-JE-P